DEPARTMENT OF THE TREASURY

Submission for OMB Review; Comment Request

June 16, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 24, 2006 to be assured of consideration.

Internal Revenue Service (IRS)

OMB Number: 1545-0887.

Type of Review: Extension.

Title: Information Return for Publicly Offered Original Issue Discount Instruments.

Form: IRS 8281.

Description: Form 8281 is filed by the issuer of a publicly offered debt instrument having OID. The information is used to update Pub. 1212, List of Original Issue Discount Instruments.

Respondents: Business or other for-profit.

Estimated Total Burden Hours: 3,060 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-9940 Filed 6-22-06; 8:45 am]

BILLING CODE 4830-01-P